DEPARTMENT OF TRANSPORTATION

Federal Aviation Administration

Notice of Intent To Rule on a Land Release Request at Shawnee Regional Airport, Shawnee, Oklahoma

AGENCY: Federal Aviation Administration (FAA), DOT.

ACTION: Notice of request to release airport property.

SUMMARY: The FAA proposes to rule and invites public comment on the application for the release for disposal of approximately 2.48 acres of airport property of federally obligated land at Shawnee Regional Airport, Shawnee, OK.

DATES: Comments must be received on or before July 8, 2019.

ADDRESSES: Send comments on this document to Mr. Justin Barker, Federal Aviation Administration, Arkansas/Oklahoma Airports District Office Manager, 10101 Hillwood Parkway, Fort Worth, TX 76177.

FOR FURTHER INFORMATION CONTACT: Ms. Bonnie Wilson, Airport Manager, Shawnee Regional Airport, 2202 Airport Drive, Shawnee, OK 74115, telephone (405) 878-1532; or Mr. Justin Barker, Federal Aviation Administration, Arkansas/Oklahoma Airports District Office Manager, 10101 Hillwood Parkway, Fort Worth, TX 76177, telephone (817) 222-5630.

SUPPLEMENTARY INFORMATION: The FAA invites public comment on the request to release property at Shawnee Regional Airport. The FAA determined that the request to release property at Shawnee Regional Airport submitted by the City of Shawnee met the procedural requirements of the 49 U.S.C 47107(h)(2). The FAA may approve the request, in whole or in part, no sooner than thirty days after the publication of this notice.

The following is a brief overview of the request: The city of Shawnee requests the release of 2.48 acres of airport property valued at $220,000. This property was deeded to the City of Shawnee by the War Assets Administration on November 20, 1947. It is located southwest of the Airport and is separated from the airfield by U.S Highway 270/Oklahoma State Highway 177. Based on the location of this property, it is not needed now or in the foreseeable future for aeronautical purposes and/or airport development. The property is currently leased by Metro Mart. Inc. This is a land lease only, and all improvements were made by the lessee. The release will allow the city to sell the property at fair market value. The city of Shawnee will use the proceeds to construct a T-hangar. The income from the lease of the hangars will benefit the aviation community by increasing airport revenue.

Any person may inspect the request by appointment at the FAA office address listed above.

Issued in Fort Worth, TX, on May 30, 2019.
Ignacio Flores,
Director, Airports Division, FAA, Southwest Region.

[FR Doc. 2019-11989 Filed 6-6-19; 8:45 am]

BILLING CODE 4910-13-P